DEPARTMENT OF THE INTERIOR

Bureau of Indian Affairs

Receipt of Petitions for Federal Acknowledgment of Existence as an Indian Tribe

AGENCY: Bureau of Indian Affairs, Interior.

ACTION: Notice.

This notice is published in the exercise of authority delegated by the Secretary of the Interior to the Assistant Secretary—Indian Affairs by 209 DM 8.

Pursuant to 25 CFR 83.9(a) notice is hereby given that the following groups have each filed a letter of intent to petition for acknowledgment by the Secretary of the Interior that the group exists as an Indian tribe. Each letter of intent was received by the Bureau of Indian Affairs (BIA) on the date indicated, and was signed by members of the group's governing body.

Ozark Mountain Cherokee Tribe of Arkansas and Missouri, c/o Mr. Terry D. Smith, P.O. Box 271, Melbourne, Arkansas 72556. October 19, 1999.

Creek-Euchee Band of Indians of Florida, c/o Chris Sewell, P.O. Box 157, Bristol, Florida 32321. November 23, 1999.

Ooragnak-Indian Nation, c/o Mr. William Blake, 8181 Deadstream Road, Honor, Michigan 44640. December 1, 1999.

Saponi Nation of Missouri, c/o Mr. John Trullinger, 3445, CR 4990, Willow Springs, Missouri 65793-9728. December 14, 1999.

Maconce Village Band of Ojibwa, c/o Mr. Ernest I. Young, 6300 Church Road, Ira Township, Michigan 48023. March 7, 2000.

Traditional Choinumni Tribe, c/o Ms. Angie Osborne, 2787 North Piedra Road, Sanger, California 93657. March 29, 2000.

Federation of Old Plimoth Indian Tribes, Inc., c/o Rodney Joseph, 558 Wareham Road, Plymouth, Massachusetts 02360. May 16, 2000.

Honey Lake Maidu, c/o Ronnie Morales, 1101 Arnold Street, Susanville, California 96130. June 1, 2000.

United Cherokee Indian Tribe of Virginia, c/o Samuel H. Penn, Sr., P.O. Box 1104, Madison Heights, Virginia 24572. July 31, 2000.

Cherokee River Indian Community, c/o Steven Bison, 11271 County Road 7, Moulton, Alabama 35650. August 3, 2000.

Wicocomico Indian Nation, c/o Al Byrd, 2054 Newmans Neck Road, Heathsville, Virginia 22473. August 28, 2000.

Cherokee's of Lawrence County, Tennessee, c/o Joe Harlan White, 393 Rabbit Trail Road, Leoma, Tennessee 38468. September 14, 2000.

Wiquapaug Eastern Pequot Tribe, c/o Byron O. Brown, P.O. Box 1148, Hope Valley, Rhode Island 02832. September 15, 2000.

North Valley Yokut Tribe, c/o Katherine Perez, 1234 Luna Lane, Stockton, California 95206. September 22, 2000.

Tejon Indian Tribe, c/o Dick Montes, 2234 Fourth Street, Wasco, California 93280. October 27, 2000.

This is a notice of receipt of these letters of intent to petition and does not constitute notice that the petitions are under active consideration. Notice of active consideration will be sent by mail to the petitioner and other interested parties at the appropriate time.

Under section 83.9(a) of the Federal regulations, third parties may submit factual and/or legal arguments in support of or in opposition to each group's petition and may request to be kept informed of all general actions affecting the petition. Third parties should provide copies of their submissions to the petitioner. Any information submitted will be made available on the same basis as other information in the BIA's files. The petitioner will be provided an opportunity to respond to such submissions prior to a final determination regarding the petitioner's status.

The petitions may be examined, by appointment, in the Department of the Interior, BIA, Branch of Acknowledgment and Research, MS: 4660-MIB, 1849 C Street, N.W., Washington, D.C. 20240; Telephone: (202) 208-3592.

Dated: November 21, 2000.
Kevin Gover,
Assistant Secretary—Indian Affairs.

[FR Doc. 00-31147 Filed 12-6-00; 8:45 am]

BILLING CODE 4310-02-P